NUCLEAR REGULATORY COMMISSION

Advisory Committee on Reactor Safeguards; Meeting Notice

In accordance with the purposes of Sections 29 and 182b. of the Atomic Energy Act (42 U.S.C. 2039, 2232b), the Advisory Committee on Reactor Safeguards (ACRS) will hold a meeting on May 8-10, 2008, 11545 Rockville Pike, Rockville, Maryland. The date of this meeting was previously published in the Federal Register on Monday, October 22, 2007 (72 FR 59574).

Thursday, May 8, 2008, Conference Room T-2b3, Two White Flint North, Rockville, Maryland

8:30 a.m.-8:35 a.m.: Opening Remarks by the ACRS Chairman (Open)—The ACRS Chairman will make opening remarks regarding the conduct of the meeting.

8:35 a.m.-10:30 a.m.: Selected Chapters of the SER Associated with ESBWR—Design Certification Application (Open/Closed)—The Committee will hear presentations by and hold discussions with representatives of the NRC staff and General Electric-Hitachi Nuclear Energy (GEH) regarding selected Chapters of the NRC staff's Safety Evaluation Report (SER) with Open Items associated with the Economic Simplified Boiling Water Reactor (ESBWR) design certification application.

Note: A portion of this session may be closed to protect information that is proprietary to GEH and its contractors pursuant to 5 U.S.C. 552b(c)(4).

10:45 a.m.-12:30 p.m.: Insights from PHEBUS-FP Tests (Open)—The Committee will hear presentations by and hold discussions with representatives of the NRC staff regarding the findings of the large-scale integral tests conducted in connection with the PHEBUS-FP Program and their implications on containment iodine behavior.

1:30 p.m.-3:30 p.m. Draft NUREG/CR Report on PRA Methods for Digital Systems (Open)—The Committee will hear presentations by and hold discussions with representatives of the NRC staff and Brookhaven National Laboratory (BNL) regarding draft NUREG/CR-XXX Report on Approaches for Using Traditional PRA Methods for Digital Systems and other related matters.

3:45 p.m.-7 p.m.: Preparation of ACRS Reports (Open)—The Committee will discuss proposed ACRS reports on matters considered during this meeting, as well as a proposed ACRS report responding to the EDO Response dated January 17, 2008, to the December 20, 2007, ACRS Report on the Susquehanna Power Uprate Application.

Friday, May 9, 2008, Conference Room T-2b3, Two White Flint North, Rockville, Maryland

8:30 a.m.-8:35 a.m.: Opening Remarks by the ACRS Chairman (Open)—The ACRS Chairman will make opening remarks regarding the conduct of the meeting.

8:35 a.m.-9:15 a.m.: Future ACRS Activities/Report of the Planning and Procedures Subcommittee (Open)—Discussion of the recommendations of the Planning and Procedures Subcommittee regarding items proposed for consideration by the full Committee during future ACRS meetings as well as discussion of matters related to the conduct of ACRS business, including anticipated workload and member assignments.

9:15 a.m.-9:30 a.m.: Reconciliation of ACRS Comments and Recommendations (Open)—The Committee will discuss the responses from the NRC Executive Director for Operations to comments and recommendations included in recent ACRS reports and letters.

9:30 a.m.-10 a.m.: Subcommittee Report (Open)—The Committee will hear a report by and hold discussions with the Chairman of the ACRS Subcommittee on Plant License Renewal regarding the license renewal application for the Shearon Harris Nuclear Power Plant that was discussed during the Subcommittee meeting on May 7, 2008.

10:15 a.m.-12 p.m.: Preparation for Meeting with the Commission on June 5, 2008 (Open)—The Committee will discuss proposed topics for meeting with the Commission on June 5, 2008.

1:30 p.m.-6:30 p.m.: Preparation of ACRS Reports (Open)—The Committee will discuss proposed ACRS reports.

Saturday, May 10, 2008, Conference Room T-2b3, Two White Flint North, Rockville, Maryland

8:30 a.m.-1 p.m.: Preparation of ACRS Reports (Open)—The Committee will continue its discussion of proposed ACRS reports.

1 p.m.-1:30 p.m.: Miscellaneous (Open)—The Committee will discuss matters related to the conduct of Committee activities and matters and specific issues that were not completed during previous meetings, as time and availability of information permit.

Procedures for the conduct of and participation in ACRS meetings were published in the Federal Register on September 26, 2007 (72 FR 54695). In accordance with those procedures, oral or written views may be presented by members of the public, including representatives of the nuclear industry. Electronic recordings will be permitted only during the open portions of the meeting. Persons desiring to make oral statements should notify the Cognizant ACRS staff named below five days before the meeting, if possible, so that appropriate arrangements can be made to allow necessary time during the meeting for such statements. Use of still, motion picture, and television cameras during the meeting may be limited to selected portions of the meeting as determined by the Chairman. Information regarding the time to be set aside for this purpose may be obtained by contacting the Cognizant ACRS staff prior to the meeting. In view of the possibility that the schedule for ACRS meetings may be adjusted by the Chairman as necessary to facilitate the conduct of the meeting, persons planning to attend should check with the Cognizant ACRS staff if such rescheduling would result in major inconvenience.

In accordance with Subsection 10(d) Pub. L. 92-463, I have determined that it may be necessary to close a portion of this meeting noted above to discuss and protect information classified as proprietary to GEH and its contractors pursuant to 5 U.S.C 552b(c)(4).

Further information regarding topics to be discussed, whether the meeting has been canceled or rescheduled, as well as the Chairman's ruling on requests for the opportunity to present oral statements and the time allotted therefor can be obtained by contacting Mr. Girija S. Shukla, Cognizant ACRS staff (301-415-6855), between 7:30 a.m. and 4 p.m., (ET). ACRS meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ (ACRS & ACNW Mtg. schedules/agendas).

Video teleconferencing service is available for observing open sessions of ACRS meetings. Those wishing to use this service for observing ACRS meetings should contact Mr. Theron Brown, ACRS Audio Visual Technician (301-415-8066), between 7:30 a.m. and 3:45 p.m., (ET), at least 10 days before the meeting to ensure the availability of this service. Individuals or organizations requesting this service will be responsible for telephone line charges and for providing the equipment and facilities that they use to establish the video teleconferencing link. The availability of video teleconferencing services is not guaranteed.

Dated: April 17, 2008.
Annette L. Vietti-Cook,
Secretary of the Commission.

[FR Doc. E8-8764 Filed 4-22-08; 8:45 am]

BILLING CODE 7590-01-P